DEPARTMENT OF TRANSPORTATION

Federal Aviation Administration

14 CFR Part 71

[Docket No. FAA-2022-1207; Airspace Docket No. 22-ANE-9]

RIN 2120-AA66

Amendment of Class D and Class E Airspace; Manchester and Nashua, NH

AGENCY: Federal Aviation Administration (FAA), DOT.

ACTION: Final rule.

SUMMARY: This action amends Class E surface airspace, Class E airspace designated as an extension to a Class C surface area, and Class E airspace extending upward from 700 feet above the surface at Manchester Boston Regional Airport (formerly Manchester Airport), Manchester, NH, and updating the airport's geographic coordinates. Also, this action amends Class D airspace, Class E airspace designated as an extension to Class D surface area, and Class E airspace extending upward from 700 feet above the surface at Boire Field Airport (formerly Boire Field), by updating the name of each airport, and removing unnecessary verbiage from the airport description. Controlled airspace is necessary for the safety and management of instrument flight rules (IFR) operations in the area.

DATES: Effective 0901 UTC, April 20, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Airspace Policy Group, Federal Aviation Administration, 800 Independence Avenue SW, Washington, DC, 20591; Telephone: (202) 267-8783.

FOR FURTHER INFORMATION CONTACT: John Fornito, Operations Support Group, Eastern Service Center, Federal Aviation Administration, 1701 Columbia Avenue, College Park, GA 30337; Telephone (404) 305-6364.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends airspace in Manchester and Nashua, NH, to support IFR operations in the area.

History

The FAA published a notice of proposed rulemaking in the Federal Register (87 FR 60356, October 5, 2022) for Docket No. FAA-2022-1207 to amend Class E surface airspace, Class E airspace designated as an extension to a Class C surface area, and Class E airspace extending upward from 700 feet above the surface at Manchester Boston Regional Airport (formerly Manchester Airport), Manchester, NH, and updating the airport's coordinates. Also, this action proposed to amend Class D airspace, Class E airspace designated as an extension to Class D surface area, and Class E airspace extending upward from 700 feet above the surface at Boire Field Airport (formerly Boire Field), by updating the names of each airport, and removing unnecessary verbiage from the airport description.

Interested parties were invited to participate in this rulemaking effort by submitting written comments on the proposal to the FAA. No comments were received.

Class D and E airspace designations are published in Paragraphs 5000, 6002, 6003, 6004, and 6005, respectively, of FAA Order JO 7400.11G, dated August 19, 2022, and effective September 15, 2022, which is incorporated by reference in 14 CFR 71.1. The Class E airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic routes, and reporting points.

The Rule

The FAA is amending 14 CFR part 71 by amending Class E surface airspace, Class E airspace designated as an extension to a Class C surface area, and Class E airspace extending upward from 700 feet above the surface at Manchester Boston Regional Airport (formerly Manchester Airport) Manchester, NH. This action also updates the coordinates of Manchester Boston Regional Airport. Also, this action amends Class D airspace, Class E airspace designated as an extension to Class D surface area, and Class E airspace extending upward from 700 feet above the surface at Boire Field Airport (formerly Boire Field), by removing unnecessary verbiage from the airport description, as the Class E extensions are not part time, as per Order 7400.2N. This action also replaces the term Notice to Airmen with the term Notice to Air Missions, and the term Airport/Facility Directory with the term Chart Supplement in the airspace descriptions, and updates the name of both airports.

Class D and E airspace designations are published in Paragraphs 5000, 6002, 6003, 6004, and 6005, respectively, of FAA Order JO 7400.11F, dated August 10, 2021, and effective September 15, 2021, which is incorporated by reference in 14 CFR 71.1. The Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a.

This airspace action is not expected to cause any potentially significant environmental impacts, and no extraordinary circumstances exist that warrant the preparation of an environmental assessment.

List of Subjects in 14 CFR Part 71

Airspace, Incorporation by reference, Navigation (air)

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389

§ 71.1 [Amended]

2. The incorporation by reference in 14 CFR 71.1 of FAA Order 7400.11G, Airspace Designations and Reporting Points, dated August 19, 2022, and effective September 15, 2022, is amended as follows:

Paragraph 5000 Class D Airspace.

* * * * *

ANE NH D Nashua, NH [Amended]

Boire Field Airport, NH

(Lat. 42°46′57″ N, long. 71°30′51″ W)

Pepperell Airport, MA

(Lat. 42°41′46″ N, long. 71°33′00″ W)

That airspace extending upward from the surface to and including 2,700 feet MSL within a 5-mile radius of Boire Field Airport; excluding that airspace within a 2-mile radius of Pepperell Airport. This Class D airspace area is effective during the specific dates and times established in advance by a Notice to Air Missions. The effective date and time will thereafter be continuously published in the Chart Supplement.

Paragraph 6002 Class E Surface Airspace.

* * * * *

ANE NH E2 Manchester, NH [Amended]

Manchester Boston Regional Airport, NH

(Lat. 42°55′58″ N, long. 71°26′09″ W)

That airspace extending upward from surface the within a 5-mile radius of the Manchester Boston Regional Airport. This Class E airspace area is effective during the specific dates and times established in advance by a Notice to Air Missions. The effective date and time will thereafter be continuously published in the Chart Supplement.

Paragraph 6003 Class E Airspace Designated as an Extension to Class C Area.

* * * * *

ANE NH E3 Manchester, NH [Amended]

Manchester Boston Regional Airport, NH

(Lat. 42°55′58″ N, long. 71°26′09″ W)

That airspace extending upward from the surface within 3.3-miles each side of the 337° bearing of Manchester Boston Regional Airport extending from the 5-mile radius to 8.5-miles northwest of the airport.

Paragraph 6004 Class E Airspace Designated as an Extension to Class D Surface Area.

* * * * *

ANE NH E4 Nashua, NH [Amended]

Boire Field Airport, NH

(Lat. 42°46′57″ N, long. 71°30′51″ W)

Manchester VOR/DME

(Lat. 42°52′07″ N, long. 71°22′10″ W)

That airspace extending upward from the surface within 1.1 miles on each side of the Manchester VOR/DME 231° radial extending from the 5-mile radius to 8.4 miles northeast of Boire Field Airport.

Paragraph 6005 Class E Airspace Areas Extending Upward From 700 Feet or More Above the Surface of the Earth.

* * * * *

ANE NH E5 Nashua, NH [Amended]

Boire Field Airport, NH

(Lat. 42°46′57″ N, long. 71°30′51″ W)

That airspace extending upward from 700 feet above the surface within a 7.9-mile radius of Boire Field Airport.

ANE NH E5 Manchester, NH [Amended]

Manchester Boston Regional Airport, NH

(Lat. 42°55′58″ N, long. 71°26′09″ W)

That airspace extending upward from 700 feet above the surface within a 23-mile radius of the Manchester Boston Regional Airport.

Issued in College Park, Georgia, on January 11, 2023.
Andreese C. Davis,
Manager, Airspace & Procedures Team South, Eastern Service Center, Air Traffic Organization.

[FR Doc. 2023-00726 Filed 1-17-23; 8:45 am]

BILLING CODE 4910-13-P